DEPARTMENT OF HOUSING AND URBAN DEVELOPMENT

[Docket No. 5200-FA-12]

Announcement of Funding Awards for the Indian Community Development Block Grant Program for Fiscal Year 2008

AGENCY: Office of Native American Programs, Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2008 (FY 2008) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Deborah M. Lalancette, Office of Native American Programs, 1670 Broadway, 23rd Floor, Denver, CO 80202, telephone (303) 675-1600. Hearing or speech-impaired individuals may access this number via TTY by calling the toll-free Federal Information Relay Service at (800) 877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY 2008 awards announced in this Notice were selected for funding in a competition announced in a NOFA published in the Federal Register on May 12, 2008, (73 FR 27047). Applications were scored and selected for funding based on the selection criteria in that notice and Area ONAP geographic jurisdictional competitions.

The amount appropriated in FY 2008 to fund the ICDBG was $62,000,000. $3,960,000 of this amount was retained to fund imminent threat grants in FY2008. In addition, a total of $3,332,433 in carryover funds from prior years was also available. The allocations for the Area ONAP geographic jurisdictions, including carryover, are as follows:

Eastern/Woodlands | $8,129,890
Southern Plains | 12,832,443
Northern Plains | 9,038,717
Southwest | 21,432,835
Northwest | 3,257,000
Alaska | 6,681,548
Total | 61,372,433

In accordance with Section 102 (a)(4)(C) of the Department of Housing and Urban Development Reform Act of 1989 (103 Stat.1987, 42 U.S.C. 3545), the Department is publishing the names, addresses, and amounts of the 83 awards made under the various regional competitions in Appendix A to this document.

Dated: April 9, 2009.
Paula O. Blunt,
General Deputy Assistant Secretary for Public and Indian Housing.

Appendix A

FY 2008 ICDBG Awards
Name of applicant | Amount funded | Activity funded | Project description
Absentee-Shawnee Tribe of Oklahoma, Scott Miller, Governor, 2025 S. Gordon Cooper Dr., Shawnee, OK 74801, (405) 275-4030 | $596,500 | Public Facility—Infrastructure | Construct water tower, drill water well and lay connecting water and sewer lines to IHS Medical Facility.
Ak-Chin Indian Community, Delia Carlyle, Chairman, 42507 W. Peters and Nall Rd., Maricopa, AZ 85239, (520) 568-1000 | 605,000 | Public Facility—Community, Center | Construction of solar array.
Akiachak Native Community, George Peter, President, P.O. Box 70, Akiachak, AK 99551, (907) 825-4626 | 600,000 | Public Facility—Community Center | Construct ANC Head Start building.
Aleknagik Traditional Council, Wassillie Ilutsik, President, P.O. Box 115, Aleknagik, AK 99555, (907) 842-2080 | 600,000 | Housing—New Construction | Construct 6 homes.
Arctic Village, Margorie Gemmill, Chief, P.O. Box 22069, Arctic Village, AK 99722, (907) 587-5523 | 335,000 | Housing—New Construction | Construct 2 homes.
Bear River Band of Rohnerville Rancheria, Leonard Bowman, Tribal Chairperson, 27 Bear River Dr., Loleta, CA 95551, (707) 733-1900 | 605,000 | Housing—New Construction | Construct 4 new single family modular housing units.
Bishop Paiute Tribe, Bruce Klein, Grant Writer, 50 Tu Su Lane, Bishop, CA 93514, (760) 873-3584 | 605,000 | Public Facility—Infrastructure | Water system reconstruction.
Cherokee Nation, Chadwick Smith, Principal Chief, P.O. Box 948, Tahlequah, OK 74465, (918) 456-0671 | 800,000 | Public Facility—Infrastructure and Public Service Project | Water line installation—20 miles and youth projects.
Chickasaw Nation, Jenny Trett, Chief Financial Administrator, P.O. Box 1548, Ada, OK 74821, (580) 436-7274 | 800,000 | Public Facility—Community Center | Construct Science and Technology Academy.
Chilkoot Indian Association, Gregory Stuckey, Tribal Administrator, P.O. Box 490, Haines, AK 99827, (907) 766-2323 | 600,000 | Housing Rehabilitation | Rehabilitate 30 homes for energy efficiency and 25 homes for health and safety.
Chippewa Cree Tribe, John Houle, Tribal Chairperson, P.O. Box 544, Box Elder, MT 59521, (406) 395-5705 | 900,000 | Housing—New Construction | Construct 9 ADA disabled/elderly units for low-income residents.
Choctaw Nation of Oklahoma, Gregory Pyle, Chief, P. O. Drawer 1210, Durant, OK 74702, (580) 924-8280 | 800,000 | Economic Development | Construct Idabel Travel Plaza.
Citizen Potawatomi Nation, John Barrett, Tribal Chairman, 1601 S. Gordon Cooper Dr., Shawnee, OK 74801, (405) 275-3121 | 800,000 | Public Facility—Community Center | Construct health systems professional services annex.
Cocopah Indian Tribe, Dr. Michael Reed, PhD, Chief Executive Officer, County 15th Street & Avenue G, Somerton, AZ 85350, (928) 627-8863 | 605,000 | Housing Rehabilitation | Rehabilitate 12 rental units.
Coeur D'Alene Tribe, J. Allen, Tribal Chairman, P.O. Box 408, Plummer, ID 83851, (208) 686-1800 | 500,000 | Public Facilities—Infrastructure | Develop infrastructure for a planned 20 unit housing development.
Confederated Salish and, Kootenai Tribes, James Steele, Jr., Tribal Council Chairman, P.O. Box 278, Pablo, MT 59855, (406) 675-2700 | 952,717 | Public Facilities— Special Needs | Expand a transitional living center.
Confederated Tribes of the Siletz Indians, Brenda Bremner, General, Manager 201 SE Swan Avenue Siletz, OR 97380, (541) 444-2532 | 500,000 | Public Facilities—Infrastructure | Develop infrastructure improvements for a planned 10 unit housing development.
Confederated Tribes of the Grand Ronde Community of Oregon, Cheryle Kennedy, Tribal, Council Chairwoman, 9615 Grand Ronde Road, Grand Ronde, OR 97347, (503) 879-2304 | 500,000 | Public Facilities—Infrastructure | Design, construct and equip a 1,898 sq. ft. addition to the dental wing of the Tribe's current Health Center.
Crow Tribe of Indians, Carl Venne, Tribal Chairman, P.O. Box 159, Crow Agency, MT 59022, (406) 638-3715 | 1,100,000 | Housing Rehabilitation and Public Facilities—Infrastructure | Rehabilitate 25 homes and improve water and wastewater infrastructure.
Delaware Nation-Western, Rochelle Jurado, Interim Executive Director, P.O. Box 825, Anadarko, OK 73005, (405) 247-2448 | 238,225 | Housing Rehabilitation | Rehabilitate. 30 single family homes.
Eastern Band of Cherokee Indians of North Carolina, Michell Hicks, Principal Chief, P.O. Box 455, Cherokee, NC 28719, (828) 497-7002 | 447,187 | Public Facility—Infrastructure | Sewer line upgrade.
Eastern Shawnee Tribe of Oklahoma, Sherry Rackliff, Consultant, 127 West Oneida, Seneca, MO 64865, (918) 914-1121 | 800,000 | Public Facility—Community Center | Construct Wellness Center.
Eastern Shoshone Tribe, Willie Noseep, Council Member, P.O. Box 538, Fort Washakie, WY 82514, (307) 332-3532 | 1,100,000 | Public Facilities— Infrastructure and Public Facilities—Community Center | Expand a multi-purpose community center and install sewer line extension.
Grand Portage Reservation Tribal Council, Norm Deschampe, Tribal Chairman, P.O. Box 428, Grand Portage, MN 55605, (218) 475-2844 | 600,000 | Public Facility—Community Center | Construct Grand Portage Headstart and Daycare Center Project.
Gulkana Village Council, Roy Ewan, President, 210 D Street, Gulkana, AK 99586, (907) 822-4545 | 600,000 | Housing—New Construction | Construct 3 homes.
Hannahville Indian Community, Kenneth Meshigaud, Tribal Chairperson, N14911 Hannahville B1 Rd., Wilson, MI 49896, (906) 466-2932 | 600,000 | Public Facility—Infrastructure | Develop Deer Ridge Subdivision Infrastructure.
Ho-Chunk Nation, Wilfrid Cleveland, President, W9814 Airport Rd., Black River Falls, WI 54615, (715) 284-7762 | 600,000 | Public Facility—Community Center | Construct Children's Learning Village—Montessori Childcare Development Project.
Hualapai Indian Tribe, Wilford Whatoname Sr., Chairman, P.O. Box 179, Peach Springs, AZ 86434, (928) 769-2216 | 825,000 | Public Facility—Special Needs | Construct health programs building.
Iipay Nation of Santa Ysabel, Johnny Hernandez, Tribal Chairman, P.O, Box 130, Santa Ysabel, CA 92070, (760) 765-0845 | 605,000 | Housing—New Construction | Construct 5 new homeownership units.
Keeweenaw Bay Indian Community, Warren Swartz, Jr., President, 16429 Beartown Rd., Baraga MI 49908, (906) 353-6623 | 600,000 | Public Facility—Community Center | Construct early childhood education center.
Lac Courte Oreilles Band of Lake Superior Chippewa, Louis Taylor, Tribal Chairman, 13394 W. Trepania Rd., Hayward, WI 54843, (715) 634-8934 | 600,000 | Public Facility—Infrastructure | Williams Infrastructure Development.
Lac du Flambeau Band of Lake Superior Chippewa, Victoria A. Doud, Tribal President, P.O. Box 67, Lac du Flambeau, WI 54538, (715) 588-3300 | 600,000 | Public Facility—Community Center | Construct Lac du Flambeau Natural Resource Green Complex.
Laguna Housing Development, William Sommers, Executive Director, P.O. Box 178, Laguna, NM 87026, (505) 552-6430 | 825,000 | Housing Rehabilitation | Rehabilitate 52 scattered site homes.
Leech Lake Band of Ojibwe, Arthur LaRose, Chairman, 115 Sixth St. NW, Suite E, Cass Lake, MN 56633, (218) 335-8200 | 600,000 | Public Facility—Community Center | Modernization of the community facilities building.
Los Coyotes Band of Cahuilla and Cupeno Indians, Diane McHenry, Grant Writer, P.O. Box 189, Warner Springs, CA 92086, (760) 432-6667 | 605,000 | Housing—New Construction | Construct 5 new/manufactured housing units.
Lower Brule Sioux Tribe, Michael Jandreau, Tribal Chairman, 187 Oyate Circle, Lower Brule, SD 57548, (605) 473-5561 | 900,000 | Housing Rehabilitation | Rehabilitate 29 homes.
Lower Elwha Klallam Tribe, Frances Charles, Tribal Chairwoman, 2851 Lower Elwha Rd., Port Angeles, WA 98363, (360) 452-8471 | 257,000 | Public Facilities—Infrastructure | Design and construct the infrastructure portion of a 7,500 square foot Head Start Facility.
Manzanita Band of Mission Indians, Honorable Leroy J. Elliott, Tribal Chairman, P.O. Box 1302, 6 Old Mine Road, Boulevard, CA 91905, (619) 766-4930 | 605,000 | Housing Rehabilitation | Rehabilitation of 19 homeowner units.
Mechoopda Indian Tribe of Chico Rancheria, Ryan Heath Browning, Executive Director, 125 Mission Ranch Blvd., Chico, CA 95926, (530) 343-4048 | 442,285 | New Housing Acquisition | Acquisition of 4-plex apartment building for low-income rental units.
Menominee Indian Tribe of Wisconsin, Lisa Waukau, Chairman, P.O. Box 910, Keshena, WI 54135, (715) 799-5113 | 600,000 | Housing Rehabilitation | Develop MITW Wood Stove Project.
Mescalero Apache Housing Authority, Timothy Horan, Executive Director, P.O. Box 227, Mescalero, NM 88340, (575) 464-9221 | 825,000 | Housing Rehabilitation | Rehabilitate 23 rental and homeownership units on scattered sites.
Metlakatla Indian Community Housing Authority, Karl Cook, Chairman, P.O. Box 8, Metlakatla, AK 99926, (907) 886-6500 | 600,000 | Public Facilities—Infrastructure | Sewer and water installation for housing.
Miami Tribe of Oklahoma, Thomas Gamble, Chief, P.O. Box 1326, Miami, OK 74355, (918) 542-1445 | 799,008 | Housing Rehabilitation | Rehabilitate 21 homes to be energy efficient for low to moderate income families.
Mississippi Band of Choctaw Indians, Beasley Denson, Miko (Tribal Chief), P.O. Box 6010, Choctaw, MS 39350, (601) 656-1501 | 600,000 | Housing Rehabilitation | Rehabilitation of housing units occupied by elderly, handicapped and low to moderate income families.
Nambe Pueblo Housing Entity, Christine A. Brock, Executive Director, P.O. Box 3456, Santa Fe, NM 87501, (505) 455-0158 | 605,000 | Public Facilities—Infrastructure | Develop infrastructure for Public Facilities (Buffalo Range Subdivision).
Native Village of Gakona, Darin Gene, President, 101 School Road, Gakona, AK 99586, (907) 822-5777 | 600,000 | Housing—New Construction | Construct 3 affordable homes.
Navajo Nation, Patrick Dalgai, Field Supervisor, P.O. Box 2365, Window Rock, AZ 86515, (928) 871-6539 | 5,500,000 | Public Facilities—Infrastructure | Construct Powerline Extensions: Tsaile/Wheatfields; Tolani Lake/Leupp; Shonto; Rock Point; Kaibeto; Indian Wells—Wood Chop Mesa; Garnet Ridge Phase III; Dennehotso; Oljato—Douglas Mess—Phase IV; Kinlichee—South/Phase I; Inscription House; Chinile.
Nikolski IRA Council, Arnold Dushkin, President, P.O. Box 105, Nikolski, AK 99638, (907) 576-2225 | 586,548 | Housing Rehabilitation | Rehabilitate 12 homes for drainage/foundation and 16 homes for septic upgrade.
Native Village of Noatak, Joseph Luther, President, P.O. Box 89, Noatak, AK 99761, (907) 485-2172 | 600,000 | Housing Rehabilitation | Rehabilitate 15-20 homes for energy efficiency, health and safety.
Noorvik Native Community, Wilbur Howarth, President, P.O. Box 209, Noorvik, AK 99763, (907) 636-2144 | 600,000 | Housing Rehabilitation | Rehabilitate 15-20 homes for energy efficiency, health and safety.
North Fork Rancheria of Mono Indians of California, Clarissa Joseph, Administrative Assistant, P.O. Box 929, North Fork, CA 93643, (559) 877-7360 | 480,050 | Housing—New Construction | Construction of energy efficient housing for elderly.
Northern Cheyenne, Tribal Housing Authority, Lafe Haugen, Executive Director, P.O. Box 327, Lame Deer, MT 59043, (406) 477-6419 | 900,000 | Housing Rehabilitation | Rehabilitate 29 homes.
Nottawaseppi Huron Band of Potawatomi, Laura Spur, Tribal Chairperson, 2221 1½ Mile Rd., Fulton, MI 49052, (269) 729-5151 | 482,703 | Public Facility—Infrastructure | Construction of privately owned utilities.
Ohkay Owingeh Housing Authority, Tomasita Duran, Executive Director, P.O. Box 1059, Ohkay Owingeh, NM 87566, (505) 852-0189 | 605,000 | Housing Rehabilitation | Rehabilitate 10 historic units (Pueblos).
Ottawa Tribe of Oklahoma, John Ballard, Chief, 13 S. 69A, Miami, OK 74354, (918) 540-1536 | 800,000 | Housing Rehabilitation | Rehabilitate 21 single family homes.
Pascua Yaqui Peter Yucupicio, Chairman, 7474 S. Camino de Oeste, Tucson, AZ 85757, (520) 883-5010 | 2,200,000 | Public Facility—Community Center | Community Park (Pascua Yaqui Pueblo Park).
Pawnee Nation of Oklahoma, George Howell, President, P.O. Box 470, Pawnee, OK 74058, (918) 762-8104 | 800,000 | Public Facility—Community Center | Construct cultural learning center and renovation project.
Ponca Tribe of Indians of Oklahoma, Earl Howe III, Chairman, 20 White Eagle Dr., Ponca City, OK 74601, (580) 762-8104 | 799,949 | Public Facility—Community Center | Ponca Tribal Clinic improvement project.
Pueblo of Isleta, J. Robert Benavides, Governor, P.O. Box 1270, Bosque Farms, NM 87022, (505) 869-3111 | 825,000 | Public Facility—Special Needs | Construct educational complex.
Pueblo of San Felipe, Ronald Tenorio, Governor, P.O. Box 4339, San Felipe Pueblo, NM 87001, (505) 867-3381 | 825,000 | Housing Rehabilitation | Rehabilitate 17 single family units.
Quapaw Tribe of Oklahoma, Donna Mercer, Tribal Administrator, 5681 S. 630 Road, Quapaw, OK 74363, (918) 542-1853 | 799,443 | Public Facility—Community Center | Construct tribal EMS ambulance services facility.
Quechan Tribally Designated Housing Entity, Tad Zavodsky, Tenant Relations Officer, 1860 West Sapphire Lane, Winterhaven, CA 92283, (760) 572-0243 | 825,000 | Public Facilities—Infrastructure | Road and sidewalk improvements for 42 unit housing subdivision.
Quileute Housing Authority, Brook Kristovich, Executive Director, P.O. Box 159, LaPush, WA 98350, (360) 374-9719 | 500,000 | Housing—New Construction | Construct 4 handicap accessible 3-bedroom homes on the Quileute Reservation.
Rosebud Sioux Tribe, Rodney Bordeaux, Tribal President, P.O. Box 430, Rosebud, SD 57570, (605) 747-2381 | 1,100,000 | Public Facilities—Infrastructure | Construct a new wastewater lagoon system.
Santee Sioux Housing Authority, Warren Mackey, Housing Authority Director, 207 His Red Nation, Niobrara, NE 68760, (402) 857-2656 | 286,000 | Public Facilities—Community Center | Construct a new office facility.
Sault Ste. Marie Tribe of Chippewa Indians of Michigan, Darwin J. McCoy, Chairman, 523 Ashmun St., Sault Ste. Marie, MI 49783, (906) 635-6050 | 600,000 | Housing Rehabilitation and Public Facility—Infrastructure | Housing Rehabilitation—Sault Ste Marie and water line replacement—St. Ignace.
Scotts Valley Band of Pomo Indians, Joel Larson, Housing Authority Director, 301 Industrial Avenue, Lakeport, CA 95453, (707) 263-4220 | 600,500 | Homeownership—Homebuyer Assistance | Homeownership Down Payment Assistance for 5 families.
Seneca-Cayuga Tribe, Flora Elmore, Government Specialist, P.O. Box 1283, Miami, OK 74355, (866) 787-5452 | 799,317 | Public Facility—Community Center | Construction of a substance abuse treatment center.
Shawnee Tribe, Ronald Sparkman, Chairman, 29 South Highway 69A, Miami, OK 74355, (918) 542-2441 | 800,000 | Housing Rehabilitation | Rehabilitate 23 low and moderate income single family homes.
Shoalwater Bay Indian Tribe, Charlene Nelson, Tribal Chairperson, P.O. Box 130, Tokeland, WA 98590, (360) 267-8168 | 500,000 | Economic Development | Design and construct a 2,400 square foot Gas Station and Convenience Store.
Skokomish Indian Tribe, John Pavel, Tribal Chairman, North 80 Tribal Center Rd., Shelton, WA 98584, (360) 426-4232 | 500,000 | Housing Rehabilitation | Rehabilitate 55 existing housing units owned and operated by the Skokomish Tribe's housing department.
Smith River Rancheria, Mr. Russ Crabtree, Tribal Administrator, 140 Rowdy Creek Road, Smith River, CA 95567, (707) 487-9255 | 605,000 | Public Facility—Infrastructure | Water and Sewer Line Extensions for housing units.
St. Regis Band of Mohawk Indians of New York, Barbara Lazore, Tribal Chief, 412 State Route 37, Akwesasne, NY 13655, (518) 358-2272 | 600,000 | Public Facility—Infrastructure | Phase I—Sewer Expansion.
Susanville Indian Rancheria, Stacy Dixon, Tribal Chairman, 745 Joaquin Street, Susanville, CA 96130, (530) 257-6264 | 605,000 | Public Facility—Community Center | Build wellness/fitness center project.
United Keetoowah Band of Cherokee Indians, George Wickliffe, Chief, P.O. Box 746, Tahlequah, OK 74465, (918) 431-1818 | 800,000 | Public Facility—Community Center | Expansion of community services center.
Utah Paiute Housing Authority, Jessie Laggis, Executive Director, 665 North, 100 East Cedar City, UT 84720, (435) 586-1122 | 900,000 | Housing Rehabilitation | Rehabilitate 22 homes.
Ute Mountain Ute Tribe, Ernest House, Sr., Tribal Chairman, P.O. Box 52, Towaoc, CO 81334, (970) 565-3751 | 900,000 | Public Facility—Infrastructure | Construct a wastewater lagoon treatment facility.
Village of Venetie, Ernest Erick, 1st Chief, P.O. Box 81119, Venetie, AK 99781, (907) 849-8212 | 360,000 | Housing—New Construction | Construct 2 homes.
White Earth Band Reservation Tribal Council, Michael Triplett, Planner, 26246 Crane Rd., White Earth, MN 56591, (218) 983-3285 | 600,000 | Public Facility—Community Center | Health Building Renovation.
Wichita & Affiliated Tribes, Gary McAdams, Tribal President, P.O. Box 729, Anadarko, OK 73005, (405) 247-2425 | 800,000 | Economic Development | Construct Wichita Travel Plaza.
Wyandotte Nation, Ronald Kaiser, Planning Director, 64700 E. Highway 60, Wyandotte, OK 74370\(918) 678-2297 | 800,000 | Public Facility—Community Center | Construct community facility multi-purpose wellness center.
Yakutat Tlingit Tribe, Victoria Demmert, President, P.O. Box 418, Yakutat, AK 99689, (907) 780-3158 | 600,000 | Public Facility—Community Center | Construct community senior center.
Yerington Paiute Tribe, Lee Shaw, Development Coordinator, 171 Campbell Lane, Yerington, NV 89447, (775) 463-2225 | 605,000 | Public Facility—Infrastructure | Build infrastructure to support 8 new units of housing.

[FR Doc. E9-9682 Filed 4-28-09; 8:45 am]

BILLING CODE 4210-67-P